DEPARTMENT OF THE TREASURY

Fiscal Service

Surety Companies Acceptable on Federal Bonds: Change in State of Incorporation—The Buckeye Union Insurance Company

AGENCY: Financial Management Service, Fiscal Service, Department of the Treasury.

ACTION: Notice.

SUMMARY: This is Supplement No. 1 to the Treasury Department Circular 570; 2005 Revision, published July 1, 2005, at 70 FR 38502.

FOR FURTHER INFORMATION CONTACT: Surety Bond Branch at (202) 874-6850.

SUPPLEMENTARY INFORMATION: The Buckeye Union Insurance Company has redomesticated from the State of Ohio to the State of Illinois effective January 1, 2005. The Company was last listed as an acceptable surety on Federal bonds at 70 FR 38510, July 1, 2005.

Federal bond-approving officers should annotate their reference copies of the Treasury Circular 570, 2005 revision, on page 38510 to reflect this change.

The Circular may be reviewed and downloaded through the Internet (http://www.fms.treas.gov/c570/index.html) or through our computerized public bulletin board system (FMS Inside Line) at (202) 874-6887. A hard copy may be purchased from the Government Printing Office (GPO), Subscription Service, Washington, DC, telephone (202) 512-1800. When ordering the Circular from GPO, use the following stock number: 769-004-05219-0.

Questions concerning this Notice may be directed to the U.S. Department of the Treasury, Financial Management Service, Financial Accounting and Services Division, Surety Bond Branch, 3700 East-West Highway, Room 6F01, Hyattsville, MD 20782.

Dated: September 9, 2005.
Vivian L. Cooper,
Director, Financial Accounting and Services Division, Financial Management Service.

[FR Doc. 05-18969 Filed 9-21-05; 8:45 am]

BILLING CODE 4810-35-M